DEPARTMENT OF DEFENSE

Defense Acquisition Regulations System

48 CFR Part 252 and Appendix F to Chapter 2

RIN 0750-AF53

Defense Federal Acquisition Regulation Supplement; Receiving Reports for Shipments (DFARS Case 2006-D024)

AGENCY: Defense Acquisition Regulations System, Department of Defense (DoD).

ACTION: Final rule.

SUMMARY: DoD has issued a final rule amending the Defense Federal Acquisition Regulation Supplement (DFARS) to address requirements for the distribution of material inspection and receiving reports under DoD contracts. The rule clarifies that two copies of the receiving report must be distributed with each shipment.

DATES: Effective Date: January 10, 2008.

FOR FURTHER INFORMATION CONTACT: Mr. Michael Benavides, Defense Acquisition Regulations System, OUSD (AT&L) DPAP (DARS), IMD 3D139, 3062 Defense Pentagon, Washington, DC 20301-3062. Telephone 703-602-1302; facsimile 703-602-7887. Please cite DFARS Case 2006-D024.

SUPPLEMENTARY INFORMATION:

A. Background

The clause at DFARS 252.246-7000, Material Inspection and Receiving Report, contains requirements for preparing and furnishing material inspection and receiving reports to the Government. Contractors can satisfy material inspection and receiving report requirements by using DD Form 250, in a manner and to the extent required by DFARS Appendix F, or by using the Wide Area WorkFlow-Receipt and Acceptance (WAWF-RA) electronic form. This rule clarifies that two copies of the receiving report (paper copies of either the DD Form 250 or the WAWF-RA report) must be distributed with the shipment in accordance with DFARS Appendix F. Such clarification is needed to ensure proper identification of all shipments.

DoD published a proposed rule at 71 FR 65769 on November 9, 2006. Three sources submitted comments on the proposed rule. A discussion of the comments is provided below.

1. Comment: One respondent stated that the rule would increase administrative costs by significantly increasing paperwork creation, administration, and coordination. The respondent recommended that, at a minimum, alternative language be added to allow the use of contractor format DD Form 250 material inspection and receiving reports instead of WAWF-RA report printing.

DoD Response: Contractors presently are responsible for distributing DD Form 250 in accordance with DFARS Appendix F, Part 4, F-401, using the instructions in Tables 1 and 2, which require distribution of two copies with each shipment. Therefore, the requirement for contractors to print copies of the WAWF-RA report instead of the DD Form 250 will not significantly increase the cost or effort of preparing shipping documents. Only the forms already in WAWF-RA must be printed; thus this should not be a significant administrative burden. However, to allow flexibility, DoD has amended the rule to incorporate the respondent's recommendation that contractors be allowed to use the DD Form 250 instead of a printed WAWF-RA form.

2. Comment: One respondent stated that the requirement for two paper copies to be distributed with shipments would create unnecessary costs and additional administrative burdens for many vendors and would unnecessarily duplicate the electronic process, thwarting the goal of the WAWF-RA being a paperless system. The respondent further suggested that this and similar issues be addressed through the DFARS Procedures, Guidance, and Information (PGI) web page rather than as a change to the DFARS.

DoD Response: Printed copies of the receiving report are needed for each shipment to eliminate costly stocking, payment, and frustrated cargo issues now affecting both DoD and contractors. As noted in the response to Comment 1, contractors already are responsible for distributing copies of DD Form 250 with the shipment. Therefore, this rule will not significantly increase the cost or effort of preparing shipping documents. The respondent's recommendation to address this issue through PGI is not a feasible solution, since this issue relates to contractor requirements, whereas PGI addresses internal DoD procedures and guidance.

3. Comment: One respondent stated that the WAWF-RA receiving report does not include the unique identification (UID) tab, where the contractor lists UIDs and serial numbers for items requiring them.

DoD Response: The respondent's comment has been noted; however, the content of the WAWF-RA receiving report is outside the scope of this DFARS rule.

This rule was not subject to Office of Management and Budget review under Executive Order 12866, dated September 30, 1993.

B. Regulatory Flexibility Act

DoD certifies that this final rule will not have a significant economic impact on a substantial number of small entities within the meaning of the Regulatory Flexibility Act, 5 U.S.C. 601, et seq., because the rule makes no significant change to DoD policy for preparation and use of material inspection and receiving reports.

C. Paperwork Reduction Act

The information collection requirements for DoD material inspection and receiving reports have been approved by the Office of Management and Budget, under Control Number 0704-0248, for use through March 31, 2008.

List of Subjects in 48 CFR Part 252

Government procurement.

Michele P. Peterson,
Editor, Defense Acquisition Regulations System.

Therefore, 48 CFR part 252 and Appendix F to chapter 2 are amended as follows:

1. The authority citation for 48 CFR part 252 and Appendix F to subchapter I continues to read as follows:

Authority: 41 U.S.C. 421 and 48 CFR Chapter 1.

PART 252—SOLICITATION PROVISIONS AND CONTRACT CLAUSES

2. Section 252.246-7000 is amended by revising the clause date and paragraph (b) to read as follows:

252.246-7000 Material Inspection and Receiving Report.

* * * * *

Material Inspection and Receiving Report (JAN 2008)

* * * * *

(b) Contractor submission of the material inspection and receiving information required by Appendix F of the Defense FAR Supplement by using the Wide Area WorkFlow-Receipt and Acceptance (WAWF-RA) electronic form (see paragraph (b)(1) of the clause at 252.232-7003) fulfills the requirement for a material inspection and receiving report (DD Form 250). Two copies of the receiving report (paper copies of either the DD Form 250 or the WAWF-RA report) shall be distributed with the shipment, in accordance with Appendix F, Part 4, F-401, Table 1, of the Defense FAR Supplement.

3. Appendix F to chapter 2 is amended in Part 4, Section F-401, by revising paragraph (a) to read as follows:

Appendix F—Material Inspection and Receiving Report

* * * * *

F-401 Distribution

(a) The contractor is responsible for distributing the DD Form 250, including mailing and payment of postage. Use of the Wide Area WorkFlow-Receipt and Acceptance (WAWF-RA) electronic form satisfies the distribution requirements of this section, except for the copies required to accompany shipment.

* * * * *

[FR Doc. E8-178 Filed 1-9-08; 8:45 am]

BILLING CODE 5001-08-P